DEPARTMENT OF LABOR

Employment and Training Administration

[TA-W-50,494]

Manufacturers Services Limited (MSL), Arden Hills, MN; Dismissal of Application for Reconsideration

Pursuant to 29 CFR 90.18(C) an application for administrative reconsideration was filed with the Director of the Division of Trade Adjustment Assistance for workers at Manufacturers Services Limited (MSL), Arden Hills, Minnesota. The application contained no new substantial information which would bear importantly on the Department's determination. Therefore, dismissal of the application was issued.

TA-W-50,494; Manufacturers Services Limited (MSL), Arden Hills, Minnesota (March 7, 2003).

Signed in Washington, DC this 18th day of March, 2003.
Edward A. Tomchick,
Director, Division of Trade Adjustment Assistance.

[FR Doc. 03-7202 Filed 3-25-03; 8:45 am]

BILLING CODE 4510-30-P